DEPARTMENT OF TRANSPORTATION

Maritime Administration

[Docket Number: MARAD-2001-9041]

Requested Administrative Waiver of the Coastwise Trade Laws

AGENCY: Maritime Administration, Department of Transportation.

ACTION: Invitation for public comments on a requested administrative waiver of the Coastwise Trade Laws for the vessel ACCORD.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before April 9, 2001.

ADDRESSES: Comments should refer to docket number MARAD-2001-9041. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR part 388.

Vessel Proposed for Waiver of the U.S.-Build Requirement

(1) Name of vessel and owner for which waiver is requested. Name of vessel: ACCORD. Owner: Accord Charters, LLC.

(2) Size, capacity and tonnage of vessel. According to the applicant: “The principal characteristics of the ACCORD are as follows: Documented Length: 81.4 feet, Actual Length: 85 feet, Breadth: 19.4 feet, Capacity: 6 passengers, Gross Registered Tons: 102, Net Registered Tons: 30, The Vessel's tonnage is measured pursuant to 46 U.S.C. 14502.”

(3) Intended use for vessel, including geographic region of intended operation and trade. According to the applicant:

“The ACCORD will offer charter service departing from the port of Seattle for the San Juan Islands of Washington State traveling to the Canadian Gulf Island and Desolation Sound, British Columbia. The Vessel currently operates one-way between a U.S. port and a Canadian port. The proposed new service will offer guests the opportunity to board at one port in Seattle or the San Juan Islands and to depart in Seattle or any other port in the San Juan Islands.

Typically, the ACCORD is contracted to one individual with a party of no more than six for a minimum of seven (7) days. The average cost of a seven (7) day charter is $25,000, including standard expenses. Charters are offered in this region from May 1st to October 31st.”

(4) Date and Place of construction and (if applicable) rebuilding. Date of construction: Constructed in 1984 and underwent modifications and repairs in Seattle, Washington in 2000. Place of construction: Vancouver, British Columbia, Canada.

(5) A statement on the impact this waiver will have on other commercial passenger vessel operators. According to the applicant:

“This waiver will have minimal impact on other commercial passenger vessel operators in this region. The ACCORD has offered charters in this region from time to time since July 1999. The charters currently offered in this region operate in the waters of Puget Sound and the San Juan Islands and most spend a portion of a seven (7) day charter in British Columbia. The reason for requesting this waiver is for convenience in arranging the arriving and departing float plane and ferry arrangements for the Vessel's charter parties. This waiver will not substantially change the service offered by the ACCORD and will not affect the competition in the charter market in this region.

The tourist industry in this region is significant yet fewer than half a dozen vessels offer multi-day private charters. Some of these spend a significant portion of the season operating outside the area directly affected by this waiver. In addition, despite the increased interest in water-based travel and the need for more charter companies, there are limited small passenger operations in this region and only a few small certified passenger vessels cruising in the area in late spring on the way to Alaska.”

(6) A statement on the impact this waiver will have on U.S. shipyards. According to the applicant: “Granting this waiver will not have a negative impact on U.S. shipyards. In fact, almost $100,000 has been spent in 2000 alone in U.S. shipyards in maintaining and upgrading the ACCORD. The ACCORD is now permanently berthed in its boathouse which is moored in Lake Union, Seattle, Washington. Consequently, U.S. shipyards will benefit by additional repairs, modifications, and upgrades that will be necessary as a result of the work required to keep the Vessel in the charter service in this area.

The ACCORD is a wood yacht. It was designed by Ed Monk Sr., a resident of Bainbridge Island, Washington. A. U.S.-built vessel of this type today would be difficult to obtain in the U.S. and would be prohibitively expensive to build new. Most U.S. builders have ceased production of this type of vessel or have moved production to the far east. As a consequence, the low production output and the high cost to obtain a U.S.-built vessel of this type would make it too expensive for a Seattle/San Juan Islands charter operation to acquire a new U.S.-built vessel.

Under these circumstances, the applicant believes that the issuance of the waiver sought will not ‘unduly adversely affect’ U.S.-flag vessel operators or U.S. shipbuilders.”

Dated: March 2, 2001.
By Order of the Maritime Administrator.
Joel C. Richard,
Secretary, Maritime Administration.

[FR Doc. 01-5905 Filed 3-8-01; 8:45 am]

BILLING CODE 4910-81-P